PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 U.S.C. Chapter 35).

DATES: Submit comments on or before December 12, 2016.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION: The Peace Corps has mechanisms in place to gather information from active Volunteers and the host country nationals who work and live with them. Currently, there is no such mechanism for collecting comprehensive information from Volunteers after their service ends. To fill this gap, the Peace Corps proposes to conduct a survey with these returned Peace Corps Volunteers (RPCVs). The information collected through the proposed survey will augment the Peace Corps' other strategic planning activities and provide information for its annual Performance and Accountability Report. The survey will be conducted by Peace Corps' Office of Third Goal and Returned Volunteer Services (3GL). The information collected through the survey will support the Peace Corps' ability to report on its performance, as well as to provide information to inform Peace Corps Operations.

OMB Control Number: 0420-xxxx.

Title: 2016 Returned Peace Corps Volunteer Survey (RPCV Survey).

Type of Review: New.

Affected Public: Individuals.

Respondents' Obligation To Reply: Voluntary.

Burden to the Public

a. Number of Respondents (first year): 25,000.

b. Frequency of response: 1 response.

c. Completion time: 0.33 hours.

d. Annual burden hours: 8,333 hours.

General Description of Collection: The information collected will support interpretation of performance data by the Office of Third Goal and Returned Volunteer Services, the Office Volunteer Recruitment and Selection, Peace Corps Response, the Office of Health Services, and the Office of Strategic Partnerships. If the information were not collected, long-range program planning and the ability of the Peace Corps to adapt its programs to the needs of those it serves would be negatively impacted.

Request for Comment: Peace Corps invites comments on whether the proposed collection of information is necessary for proper performance of the functions of the Peace Corps, including whether the information will have practical use; the accuracy of the agency's estimate of the burden of the proposed collection of information, including the validity of the information to be collected; and ways to minimize the burden of the collection of information on those who are to respond, including through the use of automated collection techniques, when appropriate, and other forms of information technology.

This notice issued in Washington, DC, on October 6, 2016.
Denora Miller,
FOIA/Privacy Act Officer, Management.

[FR Doc. 2016-24715 Filed 10-12-16; 8:45 am]

BILLING CODE 6051-01-P